DEPARTMENT OF THE INTERIOR

Fish and Wildlife Service

Merritt Island National Wildlife Refuge

ACTION: Notice of Intent to prepare a Comprehensive Conservation Plan for Merritt Island National Wildlife Refuge, located in Brevard and Volusia Counties, FL.

SUMMARY: This notice advises the pubic that the Fish and Wildlife Service intends to gather information necessary to prepare a comprehensive conservation plan and associated environmental documents pursuant to the National Environmental Policy Act and implementing regulations to: (1) Advise other agencies and the public of our intentions; and (2) obtain suggestions and information on the scope of issues to include in the environmental documents.

DATES: An open house to begin the public scoping process is scheduled for Saturday, September 21, 2002, from 10 a.m. to 2 p.m., at the Merritt Island National Wildlife Refuge Visitor Center. The Visitor Center is located 5 miles east of Titusville, Florida, on State Route 402. Special mailings, newspaper articles, and announcements will inform the public of times and locations of additional meetings to seek public input. The Service intends to hold at least three meetings during October and November 2002.

ADDRESSES: Comment, requests for additional information, and/or requests to be placed on the mailing list should be sent to: Natural Resource Planner, Merritt Island National Wildlife Refuge Complex, P.O. Box 6504, Titusville, Florida 32782-6504; telephone 321/861-2368; fax 321/861-1276. Information concerning this refuge and a mailing list request form may be found at the following Web site: http://merrittisland.fws.gov.

If you wish to comment, you may submit your comments by any one of several methods. You may mail comments to the above address. You may also comment via the Internet at the above website. Please submit Internet comments as an ASCII file avoiding the use of special characters and any form of encryption. Please also include your name and return address in your Internet message. If you do not receive a confirmation from the system that we have received your Internet message, contact the refuge directly at the above phone number or address. Finally, you may hand-deliver comments to the refuge's Visitor Center at the above address. Our practice is to make comments, including names and home addresses of respondents, available for public review during regular business hours. Individual respondents may request that we withhold their home address from the record, which we will honor to the extent allowable by law.

SUPPLEMENTARY INFORMATION: It is the policy of the Fish and Wildlife Service to have all lands within the National Wildlife Refuge System managed in accordance with an approved comprehensive conservation plan. The plan guides management decisions and identifies the goals, objectives, and strategies for achieving refuge purposes. Public input into this planning process is encouraged. The plan will provide other agencies and the public with a clear understanding of the management strategies to be implemented.

The Service has initiated the planning process for Merritt Island National Wildlife Refuge for the conservation and enhancement of its natural resources. Covering approximately 140,000 acres and including designations such as Essential Fish Habitat, Outstanding Florida Waters, Great Florida birding Trail Eastern Gateway, Candidate Marine Protected Area, and Brevard County Historic Landmark, the refuge spans Brevard and Volusia Counties and is generally located between the Atlantic Ocean and the Indian River Lagoon, near the city of Titusville, Florida.

The Service is especially interested in receiving public input during this planning process. What do you value most about the refuge? What problems or issues do you see affecting management or public use of the refuge? What improvements do you recommend for the refuge? What changes, if any, would you like to see in the management of the refuge? The Service has provided these questions for optional use and has no requirement that information be provided.

The Fish and Wildlife Service is the principal federal agency responsible for conserving, protecting, and enhancing fish, wildlife, and plants and their habitats for the continuing benefit of the American people.

Dated: July 29, 2002.
Sam D. Hamilton,
Regional Director.

[FR Doc. 02-21631 Filed 8-23-02; 8:45 am]

BILLING CODE 4310-55-M